DEPARTMENT OF TRANSPORTATION

Federal Aviation Administration

Eighth Meeting: RTCA Special Committee (230) Airborne Weather Detection Systems (Joint With EUROCAE WG-95)

AGENCY: Federal Aviation Administration (FAA), U.S. Department of Transportation. (DOT).

ACTION: Notice of Eighth RTCA Special Committee 230 meeting.

SUMMARY: The FAA is issuing this notice to advise the public of the Eighth RTCA Special Committee 230 meeting.

DATES: The meeting will be held April 12-14, 2016 from 8:30 a.m.-5:00 p.m.

ADDRESSES: The meeting will be held at Hilton Melbourne Beach Oceanfront Hotel, 3003 North Highway A1A, Melbourne, FL 32903, DC Tel: (202) 330-0680.

FOR FURTHER INFORMATION CONTACT: The RTCA Secretariat, 1150 18th Street NW., Suite 910, Washington, DC 20036, or by telephone at (202) 833-9339, fax at (202) 833-9434, or Web site at http://www.rtca.org or Karan Hofmann, Program Director, RTCA, Inc., khofmann@rtca.org, (202) 330-0680.

SUPPLEMENTARY INFORMATION: Pursuant to section 10(a)(2) of the Federal Advisory Committee Act (Pub. L. 92-463, 5 U.S.C., App.), notice is hereby given for a meeting of RTCA Special Committee 230. The agenda will include the following:

Tuesday, April 12, 2016

1. Plenary Meeting (8:30 a.m.-11:00 a.m.)

a. Welcome

b. Introduction—tour de table—Logistic & Agenda

c. Short presentation (WG-95)—TOR—Work Plan—Remaining work

d. Short presentation (WG-95 SG)—TOR—Work Plan

e. Future Meetings—June/October

f. Summary of progress through WG95 SG Webex

g. Review of common Actions between WG-95/SC-230 and the subgroup WG95 SG

2. Group Meetings (11:00 a.m.-5:00 p.m.)

Wednesday, April 13, 2016

1. Group Meetings (9:00 a.m.-5:00 p.m.)

Thursday, April 14, 2016

1. Group Meetings (9:00 a.m.-2:00 p.m.)

2. Plenary Meeting (2:00 p.m.-4:00 p.m.)

a. Presentation of WG-95 SG progress report to WG-95/SC-230

b. Q&A sessions

Attendance is open to the interested public but limited to space availability. Members of the public who wish to attend should email one of the following by March 13, 2016: Vince LoPresto at vince.lopresto@utas.utc.com; Francois Larue at Francois.Larue@zodiacaerospace.com; or Jeffery Finley at jeffery.finley@rockwellcollins.com. With the approval of the chairman, members of the public may present oral statements at the meeting. Plenary information will be provided upon request. Persons who wish to present statements or obtain information should contact the person listed in the FOR FURTHER INFORMATION CONTACT section. Members of the public may present a written statement to the committee at any time.

Issued in Washington, DC, on March 1, 2016.
Latasha Robinson,
Management & Program Analyst, NextGen, Enterprise Support Services Division, Federal Aviation Administration.

[FR Doc. 2016-04847 Filed 3-3-16; 8:45 am]

BILLING CODE 4910-13-P